DEPARTMENT OF COMMERCE

National Oceanic and Atmospheric Administration

RIN 0648-XC519

Endangered Species; File No. 17405

AGENCY: National Marine Fisheries Service (NMFS), National Oceanic and Atmospheric Administration (NOAA), Commerce.

ACTION: Notice; receipt of application.

SUMMARY: Notice is hereby given that David Lapota, Ph.D., Department of the Navy, SPAWAR Systems Center, Pacific, Environmental Sciences Division, 53475 Strothe Road, San Diego, CA 92152 has applied in due form for a permit to take black abalone (Haliotis cracherodii) for purposes of scientific research.

DATES: Written, telefaxed, or email comments must be received on or before April 3, 2013.

ADDRESSES: The application and related documents are available for review by selecting “Records Open for Public Comment” from the Features box on the Applications and Permits for Protected Species (APPS) home page, https://apps.nmfs.noaa.gov, and then selecting File No. 17405 from the list of available applications.

These documents are also available upon written request or by appointment in the following offices:

Permits and Conservation Division, Office of Protected Resources, NMFS, 1315 East-West Highway, Room 13705, Silver Spring, MD 20910; phone (301) 427-8401; fax (301) 713-0376; and

Southwest Region, NMFS, 501 West Ocean Blvd., Suite 4200, Long Beach, CA 90802-4213; phone (562) 980-4001; fax (562) 980-4018.

Written comments on this application should be submitted to the Chief, Permits and Conservation Division

• By email to NMFS.Pr1Comments@noaa.gov (include the File No. 17405 in the subject line of the email),

• By facsimile to (301) 713-0376, or

• At the address listed above.

Those individuals requesting a public hearing should submit a written request to the Chief, Permits and Conservation Division at the address listed above. The request should set forth the specific reasons why a hearing on this application would be appropriate.

FOR FURTHER INFORMATION CONTACT: Jennifer Skidmore or Rosa L. González, (301) 427-8401.

SUPPLEMENTARY INFORMATION: The subject permit is requested under the authority of the Endangered Species Act of 1973, as amended (ESA; 16 U.S.C. 1531 et seq.) and the regulations governing the taking, importing, and exporting of endangered and threatened species (50 CFR 222-226).

The purpose of the proposed research is to overcome key barriers to captive propagation of the endangered black abalone (focusing on successful spawning, increased fertilization, increased settlement, and recruitment). No black abalone will be taken from the wild, nor will animals be returned to the wild under this request. All animals will come from existing captive populations. A permit is requested for five years.

Dated: February 27, 2013.
P. Michael Payne,
Chief, Permits and Conservation Division, Office of Protected Resources, National Marine Fisheries Service.

[FR Doc. 2013-04926 Filed 3-1-13; 8:45 am]

BILLING CODE 3510-22-P